DEPARTMENT OF LABOR

Employment and Training Administration

[TA-W-54,753]

American Furniture Company, Inc., A Division of La-Z-Boy, Inc., Including Leased Workers of Ameristaff and Randstad, Martinsville, VA; Amended Certification Regarding Eligibility To Apply for Worker Adjustment Assistance

In accordance with section 223 of the Trade Act of 1974 (19 U.S.C. 2273) the Department of Labor issued a Certification of Eligibility to Apply for Worker Adjustment Assistance on May 21, 2004, applicable to workers of American Furniture Company, Inc., a division of La-Z-Boy, Inc., including leased workers of Ameristaff and Randstad, Martinsville, Virginia. The notice was published in the Federal Register on June 17, 2004 (69 FR 33942).

At the request of the State agency, the Department reviewed the certification for workers of the subject firm. The workers are engaged in the production of case goods and upholstered furniture.

New findings show that there was a previous certification, TA-W-40,316, issued on April 12, 2002, for workers of American Furniture Co., Martinsville, Virginia who were engaged in employment related to the production of case goods and upholstered furniture. That certification expired on April 12, 2004. To avoid an overlap in worker group coverage, the certification is being amended to change the impact date from April 19, 2003 to April 13, 2004, for workers of the subject firm.

The amended notice applicable to TA-W-54,753 is hereby issued as follows:

All workers of American Furniture Company, Inc., a division of La-Z-Boy, including leased workers of Ameristaff and Randstad, Martinsville, Virginia, who became totally or partially separated from employment on or after April 13, 2004, through May 21, 2006, are eligible to apply for adjustment assistance under section 223 of the Trade Act of 1974.

Signed at Washington, DC this 30th day of June 2004.
Richard Church,
Certifying Officer, Division of Trade Adjustment Assistance.

[FR Doc. 04-16297 Filed 7-16-04; 8:45 am]

BILLING CODE 4510-30-P